DEPARTMENT OF THE INTERIOR

Fish and Wildlife Service

[FWS-R3-ES-2013-N118; FXHC11300300000-134-FF03E00000]

Notice of Availability of the Assessment Plan for the Sauget Industrial Corridor Sites, St. Clair County, Illinois

AGENCY: Fish and Wildlife Service, Interior.

ACTION: Notice of availability.

SUMMARY: The U.S. Fish and Wildlife Service (USFWS), on behalf of the Department of Interior, as a natural resource trustee, announces the release of the Assessment Plan for the Sauget Industrial Corridor Sites. The Assessment Plan describes the activities that constitute the currently proposed approach of the natural resource trustees (USFWS, State of Illinois, and State of Missouri) for conducting the assessment of natural resources exposed to hazardous substances.

DATES: Submit written comments on the Assessment Plan on or before July 18, 2013.

ADDRESSES: Send written comments or requests for copies of the Assessment Plan to:

• Annette Trowbridge, U.S. Fish and Wildlife Service, Regional Environmental Contaminants/NRDAR Coordinator, 5600 American Blvd. West, Bloomington, MN 55437-1458; or

• Mr. Tom Heavisides, Contaminant Assessment Section, Illinois Department of Natural Resources, One Natural Resources Way, Springfield, IL 62702-1271.

You may download the Assessment Plan at http://www.fws.gov/midwest/es/ec/nrda/Sauget/index.html.

SUPPLEMENTARY INFORMATION: The Assessment Plan (Plan) was developed to assess injury to natural resources as a result of exposure to hazardous substances released to the environment through industrial practices. The Sauget Industrial Corridor Sites are located within the Villages of Sauget, Cahokia, and East St. Louis, in St. Clair County, Illinois. The Plan is being released to the public in accordance with the Natural Resource Damages Assessment Regulations found in the Code of Federal Regulations (CFR) at 43 CFR part 11. In accordance with those regulations, since one or more natural resources located on the Sauget Industrial Corridor Sites have been contaminated with hazardous substances, the Trustees will be conducting a Type B assessment. The Plan is one of the first steps in the damage assessment process, the goal of which is to restore natural resources injured by the release of hazardous substances.

The Plan has been developed within the authority provided by the Comprehensive Environmental Response, Compensation, and Liability Act (42 U.S.C. 9601 et seq.), as amended, and the Clean Water Act, as amended (33 U.S.C. 1251 et seq.).

All written comments will be considered by the Trustees, and included in the Report of Assessment at the conclusion of the assessment process.

Public Disclosure: Before including your address, phone number, email address, or other personal identifying information in your comment, you should be aware that your entire comment—including your personal identifying information—may be made publicly available at any time. While you can ask us in your comment to withhold your personal identifying information from public review, we cannot guarantee that we will be able to do so.

Authority

This notice is provided pursuant to Natural Resource Damage Assessment and Restoration (NRDAR) regulations (43 CFR 11.32(c)(1)).

Dated: May 16, 2013.
Thomas O. Melius,
Regional Director, U. S. Fish & Wildlife, Region 3.

[FR Doc. 2013-14424 Filed 6-17-13; 8:45 am]

BILLING CODE 4310-55-P